DEPARTMENT OF COMMERCE

National Oceanic and Atmospheric Administration

RIN 0648-XD073

New England Fishery Management Council; Public Meeting

AGENCY: National Marine Fisheries Service (NMFS), National Oceanic and Atmospheric Administration (NOAA), Commerce.

ACTION: Notice of public meeting.

SUMMARY: The New England Fishery Management Council (Council) will hold a 3-day meeting on January 28-30, 2014 to consider actions affecting New England fisheries in the exclusive economic zone (EEZ).

DATES: The meeting will be held on Tuesday, Wednesday and Thursday, starting at 9 a.m. on Tuesday, January 28; and 8:30 a.m. on Wednesday and Thursday, January 29 and 30.

ADDRESSES: The meeting will be held at the Sheraton Harborside Hotel, 250 Market Street, Portsmouth, NH 03801; telephone: (603) 431-2300; and online at www.sheratonportsmouth.com/.

Council address: New England Fishery Management Council, 50 Water Street, Mill 2, Newburyport, MA 01950; telephone: (978) 465-0492.

FOR FURTHER INFORMATION CONTACT: Thomas A. Nies, Executive Director, New England Fishery Management Council; telephone: (978) 465-0492.

SUPPLEMENTARY INFORMATION:

Tuesday, January 28, 2014

The meeting will begin on the first day with introductions by the Chairman, and brief reports from the NEFMC Chairman and Executive Director, the Northeast Fisheries Science Center and Mid-Atlantic Fishery Management Council liaisons, NOAA General Counsel, and representatives of the Atlantic States Marine Fisheries Commission and staff from NOAA Law Enforcement. The Council also will receive an update from its Electronic Monitoring Working Group. Next, the Chairman will lead a discussion about the draft House of Representatives Magnuson-Stevens Act reauthorization bill. The Council will then receive an update on the development of the Draft Environmental Impact Statement associated with Omnibus EFH Amendment 2. A report from the Monkfish Committee will follow and address final approval of measures proposed for inclusion in Framework 8 to the Monkfish Fishery Management Plan (FMP). These include specifications for acceptable biological catch (ABC), annual catch targets, days-at-sea, trip limits for the 2014-16 fishing years and modifications to the permit category H boundaries. The Council intends to approve specifications for spiny dogfish for fishing years 2014-15. Measures being considered include specifications for ABC, an annual catch target, trip limits and the research-set aside catch limit. The day will conclude with final approval of Framework Adjustment 2 to the Northeast Skate Complex FMP, including harvest specifications, possession limits, and Vessel Trip Reporting and dealer code provisions. The Council also may consider approval of a control date for the skate wing fishery before meeting adjournment for the day.

Wednesday, January 29, 2014

Final approval of Scallop Fishery Management Plan Framework 25 will be considered at this meeting. The action includes specifications for fishing years 2014-15 (default), accountability measures for Southern New England/Mid-Atlantic windowpane flounder and measures to address unused fishing year 2012 and/or 2013 Closed Area I access trips. Following a lunch break, the Council will receive a presentation from the Northeast Fisheries Science Center on a process that considers an empirical approach for estimating the stock size of Georges Bank yellowtail flounder. There will be an update on Amendment 18 to the Northeast Multispecies FMP to include an overview of progress to develop measures to promote fleet diversity, enhance sector management, promote resilience and stability of fishing businesses, and prevent excessive shares in the fishery. A second presentation by staff from the Northeast Fisheries Science Center, this time from the Social Sciences Branch, will address the performance of the groundfish fishery in fishing year 2012.

Thursday, January 30, 2014

The Herring Committee will ask the Council to initiate action and provide guidance on Framework Adjustment 4 to the Atlantic Herring FMP. The framework will include alternatives to address several of the disapproved elements of Amendment 5 to the FMP (dealer weighing requirements and measures to address net slippage). The Council will review recommendations from the Herring Committee and Advisory Panel and provide guidance regarding the development of the framework. Provisions to potentially be included in an Omnibus Amendment that would address industry-funded monitoring will be considered next on the meeting agenda. The Council will be asked to review and approve draft alternatives for further analysis in this NMFS-led effort to establish provisions for industry-funded monitoring across all fisheries. (The Council also will consider related Herring Committee recommendations). Alternatives in this amendment include provisions that delineate cost-sharing between the government and fishing industry, a process for prioritizing additional monitoring needs, observer coverage targets for the Atlantic herring and mackerel fisheries (disapproved from Herring Amendment 5 and Squid, Mackerel, Squid and Butterfish Amendment 14), and provisions for approving service providers. This item will be followed by a review of the findings on swordfish and bluefin tuna contained in the full report from the November 2013 International Commission for the Conservation of Atlantic Tunas meeting in South Africa.

Prior to a lunch break, there also will be an open public comment period during which any interested party may provide brief remarks on issues relevant to Council business but not listed on the meeting agenda. Once it reviews public comments and ad hoc committee recommendations, the Council is also scheduled to approve an Omnibus Amendment that would modify New England and Mid-Atlantic FMPs with respect to Standardized Reporting Methodology. The day will conclude with a report from the Enforcement Committee concerning restrictions for hidden compartments aboard fishing vessels and requirements for having fish totes onboard; a report on VMS satellite availability; an update on implementation of alternative net covers which would allow the towing wires to remain attached to trawl doors during closed area transit; and progress on lobster gear marking using information provided by the Atlantic States Marine Fisheries Commission.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: January 7, 2014.
Tracey L. Thompson,
Acting Deputy Director, Office of Sustainable Fisheries, National Marine Fisheries Service.

[FR Doc. 2014-00317 Filed 1-10-14; 8:45 am]

BILLING CODE 3510-22-P